DEPARTMENT OF AGRICULTURE

Animal and Plant Health Inspection Service

[Docket No. APHIS-2015-0007]

Notice of Availability of a Treatment Evaluation Document; Methyl Bromide Fumigation of Figs

Correction

In Notice Document 2015-04172, appearing on pages 10661-10662, in the Issue of Friday, February 27, 2015, make the following corrections:

1. On page 10661, in the third column, in the paragraph beginning with “DATES:”, “May 28, 2015” should read “April 28, 2015”.

2. On page 10662, in the first column, in the forty-second line, “1.5 lb □ 4.0 lb” should read “1.5 lb—4.0 lb”.

3. On page 10662, in the second column, in the thirteenth line and in the twenty-first line from the bottom of the page, “T101-i-2-22” is corrected to read “T101-i-2-2”.

[FR Doc. C1-2015-04172 Filed 3-12-15; 8:45 am]

BILLING CODE 1505-01-P